DEPARTMENT OF HOMELAND SECURITY

Office of the Secretary

[Docket No. DHS-2009-0029]

DHS Data Privacy and Integrity Advisory Committee

AGENCY: Privacy Office, DHS.

ACTION: Committee Management; Request for Applicants for Appointment to the DHS Data Privacy and Integrity Advisory Committee.

SUMMARY: The Department of Homeland Security Privacy Office is seeking applicants for appointment to the DHS Data Privacy and Integrity Advisory Committee.

DATES: Applications for membership must reach the Department of Homeland Security Privacy Office at the address below on or before June 8, 2009.

ADDRESSES: If you wish to apply for membership, please submit the documents described below to Martha K. Landesberg, Executive Director, DHS Data Privacy and Integrity Advisory Committee, by either of the following methods:

• E-mail: PrivacyCommittee@dhs.gov.

• Fax: (703) 235-0442.

FOR FURTHER INFORMATION CONTACT: Martha K. Landesberg, Executive Director, DHS Data Privacy and Integrity Advisory Committee, Department of Homeland Security, Washington, DC 20528, by telephone (703) 235-0780, by fax (703) 235-0442, or by e-mail to PrivacyCommittee@dhs.gov.

SUPPLEMENTARY INFORMATION: The DHS Data Privacy and Integrity Advisory Committee is an advisory committee established in accordance with the provisions of the Federal Advisory Committee Act (FACA), 5 U.S.C. App. (Pub. L. 92-463). The Committee provides advice at the request of the Secretary of DHS and the DHS Chief Privacy Officer on programmatic, policy, operational, administrative, and technological issues within DHS that relate to personally identifiable information (PII), as well as data integrity and other privacy-related matters. The duties of the Committee are solely advisory in nature. In developing its advice and recommendations, the Committee may, consistent with the requirements of the FACA, conduct studies, inquiries, workshops and seminars in consultation with individuals and groups in the privacy sector and/or other governmental entities. The Committee typically meets four times in a calendar year.

Committee Membership: The DHS Privacy Office is seeking applicants for terms to expire in January 2012, and January 2013, respectively. Members are appointed by and serve at the pleasure of the Secretary of the Department of Homeland Security, and must be specially qualified to serve on the Committee by virtue of their education, training, and experience in the fields of data protection, privacy, and/or emerging technologies. Pursuant to the FACA, the Committee's Charter requires that Committee membership be balanced among individuals in the following fields:

1. Individuals who are currently working in the areas of higher education or research in public (except Federal) or not-for-profit institutions;

2. Individuals currently working in non-governmental industry or commercial interests, including at least one who shall be familiar with the data concerns of small to medium enterprises; and

3. Other individuals, as determined appropriate by the Secretary.

Committee members serve as Special Government Employees (SGE) as defined in section 202(a) of title 18 United States Code and must submit Confidential Financial Disclosure Reports (OGE Form 450) annually for review and approval by Department ethics officials. DHS may not release these reports or the information in them to the public except under an order issued by a Federal court or as otherwise provided under the Privacy Act (5 U.S.C. 552a). Committee members are also required to have an appropriate security clearance as a condition of their appointment. Members are not compensated for their service on the Committee; however, while attending meetings or otherwise engaged in Committee business, members may receive travel expenses and per diem in accordance with Federal regulations.

Committee History and Activities: All individuals interested in applying for Committee membership should review the history of the Committee's work. The Committee's charter and current membership, transcripts of Committee meetings, and all of the Committee's reports and recommendations to the Department are posted on the Committee's Web page on the DHS Privacy Office Web site (http://www.dhs.gov/privacy).

Applying for Membership

If you are interested in applying for membership on the DHS Data Privacy and Integrity Advisory Committee, please submit the following documents to Martha K. Landesberg, Executive Director, at the address provided below by June 8, 2009:

1. A letter explaining your qualifications for service on the Committee; and

2. A resume that includes a detailed description of your experience that it is relevant to the Committee's work.

Please send your documents to Martha K. Landesberg, Executive Director, DHS Data Privacy and Integrity Advisory Committee, by either of the following methods:

• E-mail: PrivacyCommittee@dhs.gov.

• Fax: (703) 235-0442.

In support of the Department of Homeland Security's policy on gender and ethnic diversity, qualified women and minorities are encouraged to apply for membership.

Dated: April 28, 2009.
Mary Ellen Callahan,
Chief Privacy Officer, Department of Homeland Security.

[FR Doc. E9-10318 Filed 5-4-09; 8:45 am]

BILLING CODE 9110-9L-P